DEPARTMENT OF HEALTH AND HUMAN SERVICES

Centers for Medicare & Medicaid Services

42 CFR Parts 409, 411, 413, 440, 483, 488, and 489

[CMS-1469-CN]

RIN 0938-AL90

Medicare Program; Prospective Payment System and Consolidated Billing for Skilled Nursing Facilities; Correction

AGENCY: Centers for Medicare & Medicaid Services (CMS), HHS.

ACTION: Correction of final rule.

SUMMARY: This document corrects technical errors that appeared in the final rule published in the Federal Register on August 4, 2003, entitled “Medicare Program; Prospective Payment System and Consolidated Billing for Skilled Nursing Facilities.”

EFFECTIVE DATE: This correction is effective October 1, 2003.

FOR FURTHER INFORMATION CONTACT: Jeanette Kranacs, (410) 786-9385, or Sheila Lambowitz, (410) 786-7605.

SUPPLEMENTARY INFORMATION:

I. Background

In FR Doc. 03-19677 of August 4, 2003 (68 FR 46036), there were a number of technical errors that are identified and corrected in the “Correction of Errors” section below. The provisions in this correction document are effective as if they had been included in the document published August 4, 2003. Accordingly, the corrections are effective October 1, 2003.

In previous years, we have issued correction notices with respect to payment rates under the prospective payment system (PPS) for skilled nursing facilities (SNFs), reflecting minor adjustments to the hospital wage index relating to specific Metropolitan Statistical Areas (MSAs). For example, for fiscal year (FY) 2003, we issued a correction notice (December 27, 2002, 67 FR 79123) to update two MSA wage indexes. We did not recalculate the SNF budget neutrality factor as a result of these minor revisions.

However, it was recently determined that computational errors in the hospital wage index calculation process for FY 2004 were of sufficient magnitude to affect all of the published PPS payment rates for inpatient hospital services. A description of those computational errors will be included in a notice specific to the hospital inpatient PPS. As we explained in the August 4, 2003 final rule, the SNF wage index values reflect the wage data used in the FY 2004 inpatient hospital PPS rates, and therefore, we believe it would be appropriate to incorporate corrections to the inpatient hospital wage index. The scope of the resulting corrections to the hospital wage index will, in turn, necessitate revising the budget neutrality factor for the SNF PPS for FY 2004 as well. We note that correcting these computational errors is a purely administrative function that does not result in any change of policy or payment methodology.

Accordingly, in this correction document, we are republishing the SNF PPS payment rate tables (that is, Tables 1 through 9, inclusive) that appeared in the August 4, 2003 final rule, in order to show the corrected rates. (We note that we are not republishing Table 10 (FY 2004 Labor-Related Share (68 FR 46057)), as this table solely involves the relative importance of the various components of the labor-related share, and those figures have not changed from those that appeared in the final rule.) Further, we are republishing Table 11, which displays the projected impact of the FY 2004 SNF PPS payment update, including the variation in impact by region and by certain other facility characteristics. We note that the effect of the corrections being made in this notice is solely distributional in nature and, accordingly, that there is no change in the estimated aggregate expenditures for FY 2004 as set forth in the August 4, 2003 final rule. A further discussion of the projected impact of the FY 2004 SNF PPS payment update can be found in the August 4, 2003 final rule (68 FR 46067). In addition, the FY 2004 budget neutrality factor of 1.005 that appeared in the final rule (68 FR 46047) is hereby revised to 1.0016.

Finally, in the August 4, 2003 final rule (68 FR 46060), we added two radiopharmaceuticals, Zevalin and Bexxar, to the list of chemotherapy drugs that are excluded from consolidated billing (and, thus, are separately billable to Part B when furnished to a SNF resident during a covered Part A stay). We note that Healthcare Common Procedure Coding System (HCPCS) coding for Bexxar is currently in the process of being developed. Further, while the final rule identified HCPCS codes A9522 and A9523 for Zevalin, we note that the outpatient hospital PPS currently uses HCPCS codes G0273 and G0274 for Zevalin instead, and that further revision of these particular codes is possible in the near future. As we stated in the final rule, the consolidated billing exclusions will appear in a Consolidated Billing Annual Update Program Memorandum that we will issue at the end of CY 2003, and will be effective as of January 1, 2004 (68 FR 46059). Accordingly, we are clarifying as an interpretive matter that the HCPCS codes to be utilized in connection with Bexxar and Zevalin include any successor codes that may replace the codes currently listed in the regulation. Such successor codes would be disseminated through program instructions. Once HCPCS coding has been developed for Bexxar (and has been definitively established for Zevalin), we will make revisions, as appropriate, to the particular codes that appear in the regulations text at § 411.15(p)(2)(xii) and § 489.20(s)(12).

II. Correction of Errors

In FR Doc. 03-19677 of August 4, 2003 (68 FR 46036), make the following corrections:

Corrections to Preamble

1. On page 46040, Tables 1 and 2 are revised to read as follows:

Table 1.—FY 2004 Unadjusted Federal Rate Per Diem—Urban
Rate component | Nursing— case-mix | Therapy— case-mix | Therapy— non-case- mix | Non-case- mix
Per Diem Amount | $129.52 | $97.56 | $12.85 | $66.10

Table 2.—FY 2004 Unadjusted Federal Rate Per Diem—Rural
Rate component | Nursing— case-mix | Therapy— case-mix | Therapy— non-case- mix | Non-case- mix
Per Diem Amount | $123.74 | $112.50 | $13.72 | $67.33

2. On pages 46042 through 46043, Table 3 is revised to read as follows:

BILLING CODE 4120-01-P

3. On Pages 46044 through 46045, Table 4 is revised to read as follows:

4. On page 46047, in the third column; in the first paragraph, the budget neutrality factor of “1.005” that appears in the penultimate sentence is revised to read “1.0016”.

5. On page 46048, Table 5 is revised to read as follows:

6. On page 46049, Table 6 is revised to read as follows:

7. On Pages 46050 through 46056, Table 7 is revised to read as follows:

Table 7.—Wage Index for Urban Areas
Urban area (constituent counties or county equivalents) | Wage index
0040 Abilene, TX | 0.7627
Taylor, TX
0060 Aguadilla, PR | 0.4306
Aguada, PR
Aguadilla, PR
Moca, PR
0080 Akron, OH | 0.9246
Portage, OH
Summit, OH
0120 Albany, GA | 1.0863
Dougherty, GA
Lee, GA
0160 Albany-Schenectady-Troy, NY | 0.8489
Albany, NY
Montgomery, NY
Rensselaer, NY
Saratoga, NY
Schenectady, NY
Schoharie, NY
0200 Albuquerque, NM | 0.9300
Bernalillo, NM
Sandoval, NM
Valencia, NM
0220 Alexandria, LA | 0.8019
Rapides, LA
0240 Allentown-Bethlehem-Easton, PA | 0.9721
Carbon, PA
Lehigh, PA
Northampton, PA
0280 Altoona, PA | 0.8806
Blair, PA
0320 Amarillo, TX | 0.8986
Potter, TX
Randall, TX
0380 Anchorage, AK | 1.2216
Anchorage, AK
0440 Ann Arbor, MI | 1.1074
Lenawee, MI
Livingston, MI
Washtenaw, MI
0450 Anniston, AL | 0.8090
Calhoun, AL
0460 Appleton-Oshkosh-Neenah, WI | 0.9035
Calumet, WI
Outagamie, WI
Winnebago, WI
0470 Arecibo, PR | 0.4155
Arecibo, PR
Camuy, PR
Hatillo, PR
0480 Asheville, NC | 0.9720
Buncombe, NC
Madison, NC
0500 Athens, GA | 0.9818
Clarke, GA
Madison, GA
Oconee, GA
0520 Atlanta, GA | 1.0130
Barrow, GA
Bartow, GA
Carroll, GA
Cherokee, GA
Clayton, GA
Cobb, GA
Coweta, GA
De Kalb, GA
Douglas, GA
Fayette, GA
Forsyth, GA
Fulton, GA
Gwinnett, GA
Henry, GA
Newton, GA
Paulding, GA
Pickens, GA
Rockdale, GA
Spalding, GA
Walton, GA
0560 Atlantic City-Cape May, NJ | 1.0795
Atlantic City, NJ
Cape May, NJ
0580 Auburn-Opelika, AL | 0.8494
Lee, AL
0600 Augusta-Aiken, GA-SC | 0.9625
Columbia, GA
McDuffie, GA
Richmond, GA
Aiken, SC
Edgefield, SC
0640 Austin-San Marcos, TX | 0.9609
Bastrop, TX
Caldwell, TX
Hays, TX
Travis, TX
Williamson, TX
0680 Bakersfield, CA | 0.9810
Kern, CA
0720 Baltimore, MD | 0.9919
Anne Arundel, MD
Baltimore, MD
Baltimore City, MD
Carroll, MD
Harford, MD
Howard, MD
Queen Annes, MD
0733 Bangor, ME | 0.9904
Penobscot, ME
0743 Barnstable-Yarmouth, MA | 1.2956
Barnstable, MA
0760 Baton Rouge, LA | 0.8406
Ascension, LA
East Baton Rouge, LA
Livingston, LA
West Baton Rouge, LA
0840 Beaumont-Port Arthur, TX | 0.8424
Hardin, TX
Jefferson, TX
Orange, TX
0860 Bellingham, WA | 1.1757
Whatcom, WA
0870 Benton Harbor, MI | 0.8871
Berrien, MI
0875 Bergen-Passaic, NJ | 1.1692
Bergen, NJ
Passaic, NJ
0880 Billings, MT | 0.8961
Yellowstone, MT
0920 Biloxi-Gulfport-Pascagoula, MS | 0.9029
Hancock, MS
Harrison, MS
Jackson, MS
0960 Binghamton, NY | 0.8428
Broome, NY
Tioga, NY
1000 Birmingham, AL | 0.9212
Blount, AL
Jefferson, AL
St. Clair, AL
Shelby, AL
1010 Bismarck, ND | 0.7965
Burleigh, ND
Morton, ND
1020 Bloomington, IN | 0.8662
Monroe, IN
1040 Bloomington-Normal, IL | 0.8832
McLean, IL
1080 Boise City, ID | 0.9209
Ada, ID
Canyon, ID
1123 Boston-Worcester-Lawrence-Lowell-Brockton, MA-NH | 1.1233
Bristol, MA
Essex, MA
Middlesex, MA
Norfolk, MA
Plymouth, MA
Suffolk, MA
Worcester, MA
Hillsborough, NH
Merrimack, NH
Rockingham, NH
Strafford, NH
1125 Boulder-Longmont, CO | 1.0049
Boulder, CO
1145 Brazoria, TX | 0.8137
Brazoria, TX
1150 Bremerton, WA
Kitsap, WA
1240 Brownsville-Harlingen-San Benito, TX | 1.0303
Cameron, TX
1260 Bryan-College Station, TX | 0.9019
Brazos, TX
1280 Buffalo-Niagara Falls, NY | 0.9604
Erie, NY
Niagara, NY
1303 Burlington, VT | 0.9704
Chittenden, VT
Franklin, VT
Grand Isle, VT
1310 Caguas, PR | 0.4158
Caguas, PR
Cayey, PR
Cidra, PR
Gurabo, PR
San Lorenzo, PR
1320 Canton-Massillon, OH | 0.9071
Carroll, OH
Stark, OH
1350 Casper, WY | 0.9095
Natrona, WY
1360 Cedar Rapids, IA | 0.8874
Linn, IA
1400 Champaign-Urbana, IL | 0.9907
Champaign, IL
1440 Charleston-North Charleston, SC | 0.9332
Berkeley, SC
Charleston, SC
Dorchester, SC
1480 Charleston, WV | 0.8880
Kanawha, WV
Putnam, WV
1520 Charlotte-Gastonia-Rock Hill, NC-SC | 0.9760
Cabarrus, NC
Gaston, NC
Lincoln, NC
Mecklenburg, NC
Rowan, NC
Stanly, NC
Union, NC
York, SC
1540 Charlottesville, VA | 1.0025
Albemarle, VA
Charlottesville City, VA
Fluvanna, VA
Greene, VA
1560 Chattanooga, TN-GA | 0.9086
Catoosa, GA
Dade, GA
Walker, GA
Hamilton, TN
Marion, TN
1580 Cheyenne, WY | 0.8796
Laramie, WY
1600 Chicago, IL | 1.0892
Cook, IL
De Kalb, IL
Du Page, IL
Grundy, IL
Kane, IL
Kendall, IL
Lake, IL
McHenry, IL
Will, IL
1620 Chico-Paradise, CA | 1.0193
Butte, CA
1640 Cincinnati, OH-KY-IN | 0.9413
Dearborn, IN
Ohio, IN
Boone, KY
Campbell, KY
Gallatin, KY
Grant, KY
Kenton, KY
Pendleton, KY
Brown, OH
Clermont, OH
Hamilton, OH
Warren, OH
1660 Clarksville-Hopkinsville, TN-KY | 0.8244
Christian, KY
Montgomery, TN
1680 Cleveland-Lorain-Elyria, OH | 0.9671
Ashtabula, OH
Geauga, OH
Cuyahoga, OH
Lake, OH
Lorain, OH
Medina, OH
1720 Colorado Springs, CO | 0.9833
El Paso, CO
1740 Columbia, MO | 0.8695
Boone, MO
1760 Columbia, SC | 0.8902
Lexington, SC
Richland, SC
1800 Columbus, GA-AL | 0.8694
Russell, AL
Chattanoochee, GA
Harris, GA
Muscogee, GA
1840 Columbus, OH | 0.9648
Delaware, OH
Fairfield, OH
Franklin, OH
Licking, OH
Madison, OH
Pickaway, OH
1880 Corpus Christi, TX | 0.8521
Nueces, TX
San Patricio, TX
1890 Corvallis, OR | 1.1516
Benton, OR
1900 Cumberland, MD-WV | 0.8200
Allegany, MD
Mineral, WV
1920 Dallas, TX | 0.9974
Collin, TX
Dallas, TX
Denton, TX
Ellis, TX
Henderson, TX
Hunt, TX
Kaufman, TX
Rockwall, TX
1950 Danville, VA | 0.9035
Danville City, VA
Pittsylvania, VA
1960 Davenport-Moline-Rock Island, IA-IL | 0.8985
Scott, IA
Henry, IL
Rock Island, IL
2000 Dayton-Springfield, OH | 0.9518
Clark, OH
Greene, OH
Miami, OH
Montgomery, OH
2020 Daytona Beach, FL | 0.9078
Flagler, FL
Volusia, FL
2030 Decatur, AL | 0.8828
Lawrence, AL
Morgan, AL
2040 Decatur, IL | 0.8161
Macon, IL
2080 Denver, CO | 1.0837
Adams, CO
Arapahoe, CO
Denver, CO
Douglas, CO
Jefferson, CO
2120 Des Moines, IA | 0.9106
Dallas, IA
Polk, IA
Warren, IA
2160 Detroit, MI | 1.0101
Lapeer, MI
Macomb, MI
Monroe, MI
Oakland, MI
St. Clair, MI
Wayne, MI
2180 Dothan, AL | 0.7741
Dale, AL
Houston, AL
2190 Dover, DE | 0.9805
Kent, DE
2200 Dubuque, IA | 0.8886
Dubuque, IA
2240 Duluth-Superior, MN-WI | 1.0171
St. Louis, MN
Douglas, WI
2281 Dutchess County, NY | 1.0934
Dutchess, NY
2290 Eau Claire, WI | 0.9064
Chippewa, WI
Eau Claire, WI
2320 El Paso, TX | 0.9196
El Paso, TX
2330 Elkhart-Goshen, IN | 0.9783
Elkhart, IN
2335 Elmira, NY | 0.8377
Chemung, NY
2340 Enid, OK | 0.8559
Garfield, OK
2360 Erie, PA | 0.8601
Erie, PA
2400 Eugene-Springfield, OR | 1.1456
Lane, OR
2440 Evansville-Henderson, IN-KY | 0.8429
Posey, IN
Vanderburgh, IN
Warrick, IN
Henderson, KY
2520 Fargo-Moorhead, ND-MN | 0.9797
Clay, MN
Cass, ND
2560 Fayetteville, NC | 0.8986
Cumberland, NC
2580 Fayetteville-Springdale-Rogers, AR | 0.8396
Benton, AR
Washington, AR
2620 Flagstaff, AZ-UT | 1.1333
Coconino, AZ
Kane, UT
2640 Flint, MI | 1.0858
Genesee, MI
2650 Florence, AL | 0.7747
Colbert, AL
Lauderdale, AL
2655 Florence, SC | 0.8709
Florence, SC
2670 Fort Collins-Loveland, CO | 1.0108
Larimer, CO
2680 Ft. Lauderdale, FL | 1.0163
Broward, FL
2700 Fort Myers-Cape Coral, FL | 0.9816
Lee, FL
2710 Fort Pierce-Port St. Lucie, FL | 1.0008
Martin, FL
St. Lucie, FL
2720 Fort Smith, AR-OK | 0.8424
Crawford, AR
Sebastian, AR
Sequoyah, OK
2750 Fort Walton Beach, FL | 0.8966
Okaloosa, FL
2760 Fort Wayne, IN | 0.9585
Adams, IN
Allen, IN
De Kalb, IN
Huntington, IN
Wells, IN
Whitley, IN
2800 Forth Worth-Arlington, TX | 0.9359
Hood, TX
Johnson, TX
Parker, TX
Tarrant, TX
2840 Fresno, CA | 1.0094
Fresno, CA
Madera, CA
2880 Gadsden, AL | 0.8206
Etowah, AL
2900 Gainesville, FL | 0.9693
Alachua, FL
2920 Galveston-Texas City, TX | 0.9279
Galveston, TX
2960 Gary, IN | 0.9410
Lake, IN
Porter, IN
2975 Glens Falls, NY | 0.8475
Warren, NY
Washington, NY
2980 Goldsboro, NC | 0.8622
Wayne, NC
2985 Grand Forks, ND-MN | 0.8636
Polk, MN
Grand Forks, ND
2995 Grand Junction, CO | 0.9633
Mesa, CO
3000 Grand Rapids-Muskegon-Holland, MI | 0.9469
Allegan, MI
Kent, MI
Muskegon, MI
Ottawa, MI
3040 Great Falls, MT | 0.8809
Cascade, MT
3060 Greeley, CO | 0.9372
Weld, CO
3080 Green Bay, WI | 0.9461
Brown, WI
3120 Greensboro-Winston-Salem-High Point, NC | 0.9166
Alamance, NC
Davidson, NC
Davie, NC
Forsyth, NC
Guilford, NC
Randolph, NC
Stokes, NC
Yadkin, NC
3150 Greenville, NC | 0.9098
Pitt, NC
3160 Greenville-Spartanburg-Anderson, SC | 0.9335
Anderson, SC
Cherokee, SC
Greenville, SC
Pickens, SC
Spartanburg, SC
3180 Hagerstown, MD | 0.9172
Washington, MD
3200 Hamilton-Middletown, OH | 0.9214
Butler, OH
3240 Harrisburg-Lebanon-Carlisle, PA | 0.9164
Cumberland, PA
Dauphin, PA
Lebanon, PA
Perry, PA
3283 Hartford, CT | 1.1555
Hartford, CT
Litchfield, CT
Middlesex, CT
Tolland, CT
3285 Hattiesburg, MS | 0.7307
Forrest, MS
Lamar, MS
3290 Hickory-Morganton-Lenoir, NC | 0.9242
Alexander, NC
Burke, NC
Caldwell, NC
Catawba, NC
3320 Honolulu, HI | 1.1098
Honolulu, HI
3350 Houma, LA | 0.7748
Lafourche, LA
Terrebonne, LA
3360 Houston, TX | 0.9834
Chambers, TX
Fort Bend, TX
Harris, TX
Liberty, TX
Montgomery, TX
Waller, TX
3400 Huntington-Ashland, WV-KY-OH | 0.9595
Boyd, KY
Carter, KY
Greenup, KY
Lawrence, OH
Cabell, WV
Wayne, WV
3440 Huntsville, AL | 0.9245
Limestone, AL
Madison, AL
3480 Indianapolis, IN | 0.9916
Boone, IN
Hamilton, IN
Hancock, IN
Hendricks, IN
Johnson, IN
Madison, IN
Marion, IN
Morgan, IN
Shelby, IN
3500 Iowa City, IA | 0.9548
Johnson, IA
3520 Jackson, MI | 0.8986
Jackson, MI
3560 Jackson, MS | 0.8357
Hinds, MS
Madison, MS
Rankin, MS
3580 Jackson, TN | 0.8984
Chester, TN
Madison, TN
3600 Jacksonville, FL | 0.9529
Clay, FL
Duval, FL
Nassau, FL
St. Johns, FL
3605 Jacksonville, NC | 0.8544
Onslow, NC
3610 Jamestown, NY | 0.7762
Chautaqua, NY
3620 Janesville-Beloit, WI | 0.9282
Rock, WI
3640 Jersey City, NJ | 1.1115
Hudson, NJ
3660 Johnson City-Kingsport-Bristol, TN-VA | 0.8253
Carter, TN
Hawkins, TN
Sullivan, TN
Unicoi, TN
Washington, TN
Bristol City, VA
Scott, VA
Washington, VA
3680 Johnstown, PA | 0.8158
Cambria, PA
Somerset, PA
3700 Jonesboro, AR | 0.7794
Craighead, AR
3710 Joplin, MO | 0.8681
Jasper, MO
Newton, MO
3720 Kalamazoo-Battle Creek, MI | 1.0500
Calhoun, MI
Kalamazoo, MI
Van Buren, MI
3740 Kankakee, IL | 1.0419
Kankakee, IL
3760 Kansas City, KS-MO | 0.9715
Johnson, KS
Leavenworth, KS
Miami, KS
Wyandotte, KS
Cass, MO
Clay, MO
Clinton, MO
Jackson, MO
Lafayette, MO
Platte, MO
Ray, MO
3800 Kenosha, WI | 0.9761
Kenosha, WI
3810 Killeen-Temple, TX | 0.9159
Bell, TX
Coryell, TX
3840 Knoxville, TN | 0.8820
Anderson, TN
Blount, TN
Knox, TN
Loudon, TN
Sevier, TN
Union, TN
3850 Kokomo, IN | 0.9045
Howard, IN
Tipton, IN
3870 La Crosse, WI-MN | 0.9247
Houston, MN
La Crosse, WI
3880 Lafayette, LA | 0.8189
Acadia, LA
Lafayette, LA
St. Landry, LA
St. Martin, LA
3920 Lafayette, IN | 0.8584
Clinton, IN
Tippecanoe, IN
3960 Lake Charles, LA | 0.7841
Calcasieu, LA
3980 Lakeland-Winter Haven, FL | 0.8811
Polk, FL
4000 Lancaster, PA | 0.9282
Lancaster, PA
4040 Lansing-East Lansing, MI | 0.9714
Clinton, MI
Eaton, MI
Ingham, MI
4080 Laredo, TX | 0.8091
Webb, TX
4100 Las Cruces, NM | 0.8688
Dona Ana, NM
4120 Las Vegas, NV-AZ | 1.1528
Mohave, AZ
Clark, NV
Nye, NV
4150 Lawrence, KS | 0.8677
Douglas, KS
4200 Lawton, OK | 0.8267
Comanche, OK
4243 Lewiston-Auburn, ME | 0.9383
Androscoggin, ME
4280 Lexington, KY | 0.8685
Bourbon, KY
Clark, KY
Fayette, KY
Jessamine, KY
Madison, KY
Scott, KY
Woodford, KY
4320 Lima, OH | 0.9522
Allen, OH
Auglaize, OH
4360 Lincoln, NE | 1.0033
Lancaster, NE
4400 Little Rock-North Little Rock, AR | 0.8923
Faulkner, AR
Lonoke, AR
Pulaski, AR
Saline, AR
4420 Longview-Marshall, TX | 0.9113
Gregg, TX
Harrison, TX
Upshur, TX
4480 Los Angeles-Long Beach, CA | 1.1795
Los Angeles, CA
4520 Louisville, KY-IN | 0.9242
Clark, IN
Floyd, IN
Harrison, IN
Scott, IN
Bullitt, KY
Jefferson, KY
Oldham, KY
4600 Lubbock, TX | 0.8272
Lubbock, TX
4640 Lynchburg, VA | 0.9134
Amherst, VA
Bedford City, VA
Bedford, VA
Campbell, VA
Lynchburg City, VA
4680 Macon, GA | 0.8953
Bibb, GA
Houston, GA
Jones, GA
Peach, GA
Twiggs, GA
4720 Madison, WI | 1.0264
Dane, WI
4800 Mansfield, OH | 0.9180
Crawford, OH
Richland, OH
4840 Mayaguez, PR | 0.4795
Anasco, PR
Cabo Rojo, PR
Hormigueros, PR
Mayaguez, PR
Sabana Grande, PR
San German, PR
4880 McAllen-Edinburg-Mission, TX | 0.8381
Hidalgo, TX
4890 Medford-Ashland, OR | 1.0772
Jackson, OR
4900 Melbourne-Titusville-Palm Bay, FL | 0.9776
Brevard, FL
4920 Memphis, TN-AR-MS | 0.9009
Crittenden, AR
De Soto, MS
Fayette, TN
Shelby, TN
Tipton, TN
4940 Merced, CA | 0.9690
Merced, CA
5000 Miami, FL | 0.9894
Dade, FL
5015 Middlesex-Somerset-Hunterdon, NJ | 1.1366
Hunterdon, NJ
Middlesex, NJ
Somerset, NJ
5080 Milwaukee-Waukesha, WI | 0.9988
Milwaukee, WI
Ozaukee, WI
Washington, WI
Waukesha, WI
5120 Minneapolis-St Paul, MN-WI | 1.1001
Anoka, MN
Carver, MN
Chisago, MN
Dakota, MN
Hennepin, MN
Isanti, MN
Ramsey, MN
Scott, MN
Sherburne, MN
Washington, MN
Wright, MN
Pierce, WI
St. Croix, WI
5140 Missoula, MT | 0.8718
Missoula, MT
5160 Mobile, AL | 0.7994
Baldwin, AL
Mobile, AL
5170 Modesto, CA | 1.1275
Stanislaus, CA
5190 Monmouth-Ocean, NJ | 1.0956
Monmouth, NJ
Ocean, NJ
5200 Monroe, LA | 0.7922
Ouachita, LA
5240 Montgomery, AL | 0.7907
Autauga, AL
Elmore, AL
Montgomery, AL
5280 Muncie, IN | 0.8775
Delaware, IN
5330 Myrtle Beach, SC | 0.9112
Horry, SC
5345 Naples, FL | 0.9790
Collier, FL
5360 Nashville, TN | 0.9855
Cheatham, TN
Davidson, TN
Dickson, TN
Robertson, TN
Rutherford TN
Sumner, TN
Williamson, TN
Wilson, TN
5380 Nassau-Suffolk, NY | 1.3140
Nassau, NY
Suffolk, NY
5483 New Haven-Bridgeport-Stamford-Waterbury-Danbury, CT | 1.2385
Fairfield, CT
New Haven, CT
5523 New London-Norwich, CT | 1.1631
New London, CT
5560 New Orleans, LA | 0.9174
Jefferson, LA
Orleans, LA
Plaquemines, LA
St. Bernard, LA
St. Charles, LA
St. James, LA
St. John The Baptist, LA
St. Tammany, LA
5600 New York, NY | 1.4018
Bronx, NY
Kings, NY
New York, NY
Putnam, NY
Queens, NY
Richmond, NY
Rockland, NY
Westchester, NY
5640 Newark, NJ | 1.1518
Essex, NJ
Morris, NJ
Sussex, NJ
Union, NJ
Warren, NJ
5660 Newburgh, NY-PA | 1.1509
Orange, NY
Pike, PA
5720 Norfolk-Virginia Beach-Newport News, VA-NC | 0.8619
Currituck, NC
Chesapeake City, VA
Gloucester, VA
Hampton City, VA
Isle of Wight, VA
James City, VA
Mathews, VA
Newport News City, VA
Norfolk City, VA
Poquoson City, VA
Portsmouth City, VA
Suffolk City, VA
Virginia Beach City VA
Williamsburg City, VA
York, VA
5775 Oakland, CA | 1.4921
Alameda, CA
Contra Costa, CA
5790 Ocala, FL | 0.9728
Marion, FL
5800 Odessa-Midland, TX | 0.9327
Ector, TX
Midland, TX
5880 Oklahoma City, OK | 0.8984
Canadian, OK
Cleveland, OK
Logan, OK
McClain, OK
Oklahoma, OK
Pottawatomie, OK
5910 Olympia, WA | 1.0963
Thurston, WA
5920 Omaha, NE-IA | 0.9745
Pottawattamie, IA
Cass, NE
Douglas, NE
Sarpy, NE
Washington, NE
5945 Orange County, CA | 1.1372
Orange, CA
5960 Orlando, FL | 0.9654
Lake, FL
Orange, FL
Osceola, FL
Seminole, FL
5990 Owensboro, KY | 0.8374
Daviess, KY
6015 Panama City, FL | 0.8202
Bay, FL
6020 Parkersburg-Marietta, WV-OH | 0.8039
Washington, OH
Wood, WV
6080 Pensacola, FL | 0.8707
Escambia, FL
Santa Rosa, FL
6120 Peoria-Pekin, IL | 0.8734
Peoria, IL
Tazewell, IL
Woodford, IL
6160 Philadelphia, PA-NJ | 1.0883
Burlington, NJ
Camden, NJ
Gloucester, NJ
Salem, NJ
Bucks, PA
Chester, PA
Delaware, PA
Montgomery, PA
Philadelphia, PA
6200 Phoenix-Mesa, AZ | 1.0129
Maricopa, AZ
Pinal, AZ
6240 Pine Bluff, AR | 0.7865
Jefferson, AR
6280 Pittsburgh, PA | 0.8901
Allegheny, PA
Beaver, PA
Butler, PA
Fayette, PA
Washington, PA
Westmoreland, PA
6323 Pittsfield, MA | 1.0276
Berkshire, MA
6340 Pocatello, ID | 0.9042
Bannock, ID
6360 Ponce, PR | 0.4708
Guayanilla, PR
Juana Diaz, PR
Penuelas, PR
Ponce, PR
Villalba, PR
Yauco, PR
6403 Portland, ME | 0.9949
Cumberland, ME
Sagadahoc, ME
York, ME
6440 Portland-Vancouver, OR-WA | 1.1213
Clackamas, OR
Columbia, OR
Multnomah, OR
Washington, OR
Yamhill, OR
Clark, WA
6483 Providence-Warwick-Pawtucket, RI | 1.0977
Bristol, RI
Kent, RI
Newport, RI
Providence, RI
Washington, RI
6520 Provo-Orem, UT | 0.9976
Utah, UT
6560 Pueblo, CO | 0.8778
Pueblo, CO
6580 Punta Gorda, FL | 0.9510
Charlotte, FL
6600 Racine, WI | 0.8814
Racine, WI
6640 Raleigh-Durham-Chapel Hill, NC | 0.9959
Chatham, NC
Durham, NC
Franklin, NC
Johnston, NC
Orange, NC
Wake, NC
6660 Rapid City, SD | 0.8806
Pennington, SD
6680 Reading, PA | 0.9133
Berks, PA
6690 Redding, CA | 1.1352
Shasta, CA
6720 Reno, NV | 1.0682
Washoe, NV
6740 Richland-Kennewick-Pasco, WA | 1.0609
Benton, WA
Franklin, WA
6760 Richmond-Petersburg, VA | 0.9349
Charles City County, VA
Chesterfield, VA
Colonial Heights City, VA
Dinwiddie, VA
Goochland, VA
Hanover, VA
Henrico, VA
Hopewell City, VA
New Kent, VA
Petersburg City, VA
Powhatan, VA
Prince George, VA
Richmond City, VA
6780 Riverside-San Bernardino, CA | 1.1341
Riverside, CA
San Bernardino, CA
6800 Roanoke, VA | 0.8700
Botetourt, VA
Roanoke, VA
Roanoke City, VA
Salem City, VA
6820 Rochester, MN | 1.1739
Olmsted, MN
6840 Rochester, NY | 0.9430
Genesee, NY
Livingston, NY
Monroe, NY
Ontario, NY
Orleans, NY
Wayne, NY
6880 Rockford, IL | 0.9666
Boone, IL
Ogle, IL
Winnebago, IL
6895 Rocky Mount, NC | 0.9076
Edgecombe, NC
Nash, NC
6920 Sacramento, CA | 1.1845
El Dorado, CA
Placer, CA
Sacramento, CA
6960 Saginaw-Bay City-Midland, MI | 1.0032
Bay, MI
Midland, MI
Saginaw, MI
6980 St. Cloud, MN | 0.9506
Benton, MN
Stearns, MN
7000 St. Joseph, MO | 0.9757
Andrews, MO
Buchanan, MO
7040 St. Louis, MO-IL | 0.9033
Clinton, IL
Jersey, IL
Madison, IL
Monroe, IL
St. Clair, IL
Franklin, MO
Jefferson, MO
Lincoln, MO
St. Charles, MO
St. Louis, MO
St. Louis City, MO
Warren, MO
Sullivan City, MO
7080 Salem, OR | 1.0482
Marion, OR
Polk, OR
7120 Salinas, CA | 1.4339
Monterey, CA
7160 Salt Lake City-Ogden, UT | 0.9913
Davis, UT
Salt Lake, UT
Weber, UT
7200 San Angelo, TX | 0.8535
Tom Green, TX
7240 San Antonio, TX | 0.8870
Bexar, TX
Comal, TX
Guadalupe, TX
Wilson, TX
7320 San Diego, CA | 1.1147
San Diego, CA
7360 San Francisco, CA | 1.4514
Marin, CA
San Francisco, CA
San Mateo, CA
7400 San Jose, CA | 1.4626
Santa Clara, CA
7440 San Juan-Bayamon, PR | 0.4909
Aguas Buenas, PR
Barceloneta, PR
Bayamon, PR
Canovanas, PR
Carolina, PR
Catano, PR
Ceiba, PR
Comerio, PR
Corozal, PR
Dorado, PR
Fajardo, PR
Florida, PR
Guaynabo, PR
Humacao, PR
Juncos, PR
Los Piedras, PR
Loiza, PR
Luguillo, PR
Manati, PR
Morovis, PR
Naguabo, PR
Naranjito, PR
Rio Grande, PR
San Juan, PR
Toa Alta, PR
Toa Baja, PR
Trujillo Alto, PR
Vega Alta, PR
Vega Baja, PR
Yabucoa, PR
7460 San Luis Obispo-Atascadero-Paso Robles, CA | 1.1429
San Luis Obispo, CA
7480 Santa Barbara-Santa Maria-Lompoc, CA | 1.0441
Santa Barbara, CA
7485 Santa Cruz-Watsonville, CA | 1.2942
Santa Cruz, CA
7490 Santa Fe, NM | 1.0653
Los Alamos, NM
Santa Fe, NM
7500 Santa Rosa, CA | 1.2877
Sonoma, CA
7510 Sarasota-Bradenton, FL | 0.9964
Manatee, FL
Sarasota, FL
7520 Savannah, GA | 0.9472
Bryan, GA
Chatham, GA
Effingham, GA
7560 Scranton-Wilkes-Barre—Hazleton, PA | 0.8412
Columbia, PA
Lackawanna, PA
Luzerne, PA
Wyoming, PA
7600 Seattle-Bellevue-Everett, WA | 1.1562
Island, WA
King, WA
Snohomish, WA
7610 Sharon, PA | 0.7751
Mercer, PA
7620 Sheboygan, WI | 0.8624
Sheboygan, WI
7640 Sherman-Denison, TX | 0.9700
Grayson, TX
7680 Shreveport-Bossier City, LA | 0.9083
Bossier, LA
Caddo, LA
Webster, LA
7720 Sioux City, IA-NE | 0.8993
Woodbury, IA
Dakota, NE
7760 Sioux Falls, SD | 0.9309
Lincoln, SD
Minnehaha, SD
7800 South Bend, IN | 0.9821
St. Joseph, IN
7840 Spokane, WA | 1.0901
Spokane, WA
7880 Springfield, IL | 0.8944
Menard, IL
Sangamon, IL
7920 Springfield, MO | 0.8457
Christian, MO
Greene, MO
Webster, MO
8003 Springfield, MA | 1.0543
Hampden, MA
Hampshire, MA
8050 State College, PA | 0.8740
Centre, PA
8080 Steubenville-Weirton, OH-WV | 0.8398
Jefferson, OH
Brooke, WV
Hancock, WV
8120 Stockton-Lodi, CA | 1.0404
San Joaquin, CA
8140 Sumter, SC | 0.8243
Sumter, SC
8160 Syracuse, NY | 0.9412
Cayuga, NY
Madison, NY
Onondaga, NY
Oswego, NY
8200 Tacoma, WA | 1.1116
Pierce, WA
8240 Tallahassee, FL | 0.8520
Gadsden, FL
Leon, FL
8280 Tampa-St. Petersburg-Clearwater, FL | 0.9103
Hernando, FL
Hillsborough, FL
Pasco, FL
Pinellas, FL
8320 Terre Haute, IN | 0.8325
Clay, IN
Vermillion, IN
Vigo, IN
8360 Texarkana, AR-Texarkana, TX | 0.8150
Miller, AR
Bowie, TX
8400 Toledo, OH | 0.9381
Fulton, OH
Lucas, OH
Wood, OH
8440 Topeka, KS | 0.9108
Shawnee, KS
8480 Trenton, NJ | 1.0517
Mercer, NJ
8520 Tucson, AZ | 0.8981
Pima, AZ
8560 Tulsa, OK | 0.9185
Creek, OK
Osage, OK
Rogers, OK
Tulsa, OK
Wagoner, OK
8600 Tuscaloosa, AL | 0.8212
Tuscaloosa, AL
8640 Tyler, TX | 0.9404
Smith, TX
8680 Utica-Rome, NY | 0.8403
Herkimer, NY
Oneida, NY
8720 Vallejo-Fairfield-Napa, CA | 1.3377
Napa, CA
Solano, CA
8735 Ventura, CA | 1.1064
Ventura, CA
8750 Victoria, TX | 0.8184
Victoria, TX
8760 Vineland-Millville-Bridgeton, NJ | 1.0405
Cumberland, NJ
8780 Visalia-Tulare-Porterville, CA | 0.9794
Tulare, CA
8800 Waco, TX | 0.8394
McLennan, TX
8840 Washington, DC-MD-VA-WV | 1.0904
District of Columbia, DC
Calvert, MD
Charles, MD
Frederick, MD
Montgomery, MD
Prince Georges, MD
Alexandria City, VA
Arlington, VA
Clarke, VA
Culpepper, VA
Fairfax, VA
Fairfax City, VA
Falls Church City, VA
Fauquier, VA
Fredericksburg City, VA
King George, VA
Loudoun, VA
Manassas City, VA
Manassas Park City, VA
Prince William, VA
Spotsylvania, VA
Stafford, VA
Warren, VA
Berkeley, WV
Jefferson, WV
8920 Waterloo-Cedar Falls, IA | 0.8366
Black Hawk, IA
8940 Wausau, WI | 0.9692
Marathon, WI
8960 West Palm Beach-Boca Raton, FL | 0.9798
Palm Beach, FL
9000 Wheeling, OH-WV | 0.7494
Belmont, OH
Marshall, WV
Ohio, WV
9040 Wichita, KS | 0.9238
Butler, KS
Harvey, KS
Sedgwick, KS
9080 Wichita Falls, TX | 0.8341
Archer, TX
Wichita, TX
9140 Williamsport, PA | 0.8158
Lycoming, PA
9160 Wilmington-Newark, DE-MD | 1.0882
New Castle, DE
Cecil, MD
9200 Wilmington, NC | 0.9563
New Hanover, NC
Brunswick, NC
9260 Yakima, WA | 1.0372
Yakima, WA
9270 Yolo, CA | 0.9204
Yolo, CA
9280 York, PA | 0.9119
York, PA
9320 Youngstown-Warren, OH | 0.9214
Columbiana, OH
Mahoning, OH
Trumbull, OH
9340 Yuba City, CA | 1.0196
Sutter, CA
Yuba, CA
9360 Yuma, AZ | 0.8895
Yuma, AZ

8. On Page 46056, Table 8 is revised as follows:

TABLE 8.—Wage Index for Rural Areas
Rural area | Wage index
Alabama | 0.7492
Alaska | 1.1886
Arizona | 0.9270
Arkansas | 0.7734
California | 1.0027
Colorado | 0.9328
Connecticut | 1.2183
Delaware | 0.9557
Florida | 0.8870
Georgia | 0.8595
Guam | 0.9611
Hawaii | 0.9958
Idaho | 0.8974
Illinois | 0.8254
Indiana | 0.8824
Iowa | 0.8416
Kansas | 0.8034
Kentucky | 0.7973
Louisiana | 0.7458
Maine | 0.8812
Maryland | 0.9125
Massachusetts | 1.0432
Michigan | 0.8884
Minnesota | 0.9330
Mississippi | 0.7778
Missouri | 0.7892
Montana | 0.8800
Nebraska | 0.8822
Nevada | 0.9806
New Hampshire | 1.0030
New Jersey¹ |
New Mexico | 0.8270
New York | 0.8526
North Carolina | 0.8458
North Dakota | 0.7778
Ohio | 0.8820
Oklahoma | 0.7537
Oregon | 0.9994
Pennsylvania | 0.8378
Puerto Rico | 0.4018
Rhode Island¹ |
South Carolina | 0.8498
South Dakota | 0.8195
Tennessee | 0.7886
Texas | 0.7780
Utah | 0.8974
Vermont | 0.9307
Virginia | 0.8498
Virgin Islands | 0.7195
Washington | 1.0388
West Virginia | 0.8018
Wisconsin | 0.9304
Wyoming | 0.9110
¹ All counties within the State are classified urban.

9. On Page 46057, in the second column, in the first line, “$20,379.” is revised to read “$20,371.”

10. On Page 46057, Table 9 is revised to read as follows:

Table 9.—SNF XYZ: Located in State College, PA
[Wage Index: 0.8740]
RUG group | Labor | Wage index | Adj. labor | Non-labor | Adj. rate | Percent adjustment | Medi-care days | Payment
RVC | $267.32 | 0.8740 | $233.64 | $82.70 | $316.34 | * $337.53 | 14 | $4,725
RHA | $206.58 | 0.8740 | $180.55 | $63.91 | $244.46 | * $260.84 | 16 | $4,173
SSC | $172.07 | 0.8740 | $150.39 | $53.24 | $203.63 | * * $244.36 | 30 | $7,331
IA2 | $116.68 | 0.8740 | $101.98 | $36.10 | $138.03 | $138.08 | 30 | $4,142
Total |  |  |  |  |  |  | 90 | $20,371
* Reflects a 6.7 percent adjustment from section 314 of the BIPA.
* * Reflects a 20 percent adjustment from section 101(a) of the BBRA.

11. On Page 46069, Table 11 is revised to read as follows:

III. Waiver of Proposed Rulemaking and Delayed Effective Date

We ordinarily publish a notice of proposed rulemaking in the Federal Register to provide a period for public comment before the provisions of a notice take effect. We can waive this procedure, however, if we find good cause that notice-and-comment procedure is impracticable, unnecessary, or contrary to the public interest and incorporate a statement of the finding and the reasons for it into the notice issued. We can also waive the 30-day delayed effective date of the Administrative Procedure Act (5 U.S.C. 553(d)) when there is good cause to do so and we publish in the rule an explanation of our good cause.

We find it unnecessary to undertake notice-and-comment rulemaking because this notice merely provides technical corrections to the regulations. We are not changing our payment methodology, but rather, are simply implementing correctly the payment methodology that we previously proposed, received comment on, and subsequently finalized. Thus, because the public has already had the opportunity to comment on the payment methodology being used to calculate wage indexes, additional comment would be unnecessary.

Further, it would be impracticable at this point in time either to solicit additional comments or to delay the effective date of these changes beyond October 1, 2003. The Social Security Act, in subparagraphs (G) and (H) of section 1888(e)(4), requires the updated SNF PPS rates to be in place at the beginning of each Federal fiscal year. Since the fiscal year begins on October 1, 2003, it is imperative that we ensure that the correct rates are in place and effective by October 1, 2003, and it would not have been possible to publish a notice and receive comments on it in the brief period of time between discovering our error and the October 1, 2003 effective date for the updated SNF PPS rates.

Finally, we believe that engaging in notice and comment prior to making these corrections or delaying the effective date beyond October 1, 2003 would be contrary to the public interest. As a matter of good public policy, the rates used in the SNF PPS should not be based on wage indexes that we now know were miscalculated. The public interest is served by ensuring that the rates used in the SNF PPS are correct and that such rates are in effect for the entire fiscal year. Thus, it would be contrary to the public interest to delay implementing such corrected rates in order either to engage in notice-and-comment rulemaking or to provide for a 30-day delay in the effective date. Therefore, we find good cause to waive notice-and-comment procedures, as well as the 30-day delay in effective date.

(Catalog of Federal Domestic Assistance Program No. 93.773, Medicare—Hospital Insurance; and Program No. 93.774, Medicare—Supplementary Medical Insurance Program)

Dated: September 24, 2003.
Ann Agnew,
Executive Secretary to the Department.

[FR Doc. 03-24549 Filed 9-26-03; 8:45 am]

BILLING CODE 4120-01-P